DEPARTMENT OF LABOR

Employment and Training Administration

[TA-W-53,515B; TA-W-53,515E; TA-W-53,515I; and TA-W-53,515K]

Thomasville Furniture Industries, Inc., CDK/CPS, Thomasville, NC; Thomasville Furniture Industries, Inc., Plant M, Thomasville, NC; Thomasville Furniture Industries, Inc., Warehouse, Thomasville, NC; and Thomasville Furniture Industries, Inc., Lenoir Plant, Lenoir, NC; Notice of Termination of Investigation

Pursuant to section 221 of the Trade Act of 1974, as amended, an investigation was initiated on November 13, 2003, in response to a petition filed by a company official on behalf of workers of Thomasville Furniture Industries, Inc., CDK/CPS, Thomasville, North Carolina (TA-W-53,515B); Thomasville Furniture Industries, Inc., Plant M, Thomasville, North Carolina (TA-W-53,515E); Thomasville Furniture Industries, Inc., Warehouse, Thomasville, North Carolina (TA-W-53,515I); and Thomasville Furniture Industries, Inc., Lenoir Plant, Lenoir, North Carolina (TA-W-53,515K).

The petitioner has requested that the petition be withdrawn. Consequently, the investigation has been terminated.

Signed at Washington, DC this 13th day of January, 2004.
Linda G. Poole,
Certifying Officer, Division of Trade Adjustment Assistance.

[FR Doc. 04-2616 Filed 2-5-04; 8:45 am]

BILLING CODE 4510-30-M